SECURITIES AND EXCHANGE COMMISSION

[Release No. 34-49205; File No. SR-IFX-2004-01]

Self-Regulatory Organization; Notice of Filing and Immediate Effectiveness of Proposed Rule Change by the Inet Futures Exchange, LLC Relating to Its Name Change From the Island Futures Exchange, LLC to the Inet Futures Exchange, LLC

February 6, 2004.

Pursuant to section 19(b)(7) of the Securities Exchange Act of 1934 (“Act”),¹ and Rule 19b-7 under the Act,² notice is hereby given that on January 14, 2004, the Inet Futures Exchange, LLC (“IFX” or “Exchange”) filed with the Securities and Exchange Commission (“SEC” or “Commission”) the proposed rule change described in items I, II, and III below, which items have been prepared by IFX. The Commission is publishing this notice to solicit comments on the proposed rule change from interested persons. On December 2, 2003, IFX filed the proposed rule change with the Commodity Futures Trading Commission (“CFTC”), together with a written certification under section 5c(c) of the Commodity Exchange Act ³ (“CEA”) in which IFX indicated that the effective date of the proposed rule change would be December 5, 2003.

¹ 15 U.S.C. 78s(b)(7).

² 17 CFR 240.19b-7.

³ 7 U.S.C. 7a-2(c).

I. Self-Regulatory Organization's Description of the Proposed Rule Change

The purpose of the proposed rule change is to change the name of the Exchange from the Island Futures Exchange, LLC to the Inet Futures Exchange, LLC. The text of the proposed rule change is available at the Office of the Secretary, Exchange, and at the Commission.

II. Self-Regulatory Organization's Statement of the Purpose of, and Statutory Basis for, the Proposed Rule Changes

In its filing with the Commission, IFX included statements concerning the purpose of and basis for the proposed rule change and discussed any comments it received on the proposed rule change. The text of these statements may be examined at the places specified in item IV below. IFX has prepared summaries, set forth in sections (A), (B), and (C) below, of the most significant aspects of such statements.

A. Self-Regulatory Organization's Statement of the Purpose of, and Statutory Basis for, the Proposed Rule Changes

1. Purpose

The purpose of the proposed rule change is to change the name of the Island Futures Exchange, LLC to the Inet Futures Exchange, LLC. Under the proposed rule change, IFX is amending references in Inet's Constitution and Rules that specifically refer to the name of the Exchange to reflect the defined term “Exchange,” which IFX also proposes to modify to accommodate the name change. Moreover, IFX proposes a new definition for the term “Trading System” to ease the identification of the Trading System within Inet's Rules.

2. Statutory Basis

This filing and the enclosed Rules are submitted pursuant to section 19(b)(7) of the Act.⁴ The Rules are consistent with the purpose and requirements of the Commodity Futures Modernization Act of 2000 ⁵ and section 6 of the Act of 1934 ⁶ in that it reflects the name change of the Inet Futures Exchange, LLC from its previous name of Island Futures Exchange, LLC.

⁴ 15 U.S.C. 78s(b)(7).

⁵ Pub. L. 106-554, 114 Stat. 2763 (2000).

⁶ 15 U.S.C. 78f.

B. Self-Regulatory Organization's Statement on Burden on Competition

IFX does not believe that the proposed rule change would impose any burden on competition.

C. Self-Regulatory Organization's Statement on Comments on Proposed Rule Changes Received From Members, Participants, or Others

IFX neither solicited nor received written comment on the proposed rule change.

III. Date of Effectiveness of the Proposed Rule Changes and Timing for Commission Action

The proposed rule change became effective on December 5, 2003. Within 60 days of the date of effectiveness of the proposed rule change, the Commission, after consultation with the CFTC, may summarily abrogate the proposed rule change and require that the proposed rule change be refiled in accordance with the provisions of section 19(b)(1) of the Act.⁷

⁷ 15 U.S.C. 78s(b)(1).

IV. Solicitation of Comments

Interested persons are invited to submit written data, views, and arguments concerning the foregoing, including whether the proposed rule change conflicts with the Act. Persons making written submissions should file nine copies of the submission with the Secretary, Securities and Exchange Commission, 450 Fifth Street, NW., Washington, DC 20549-0609. Comments may also be submitted electronically at the following e-mail address: rule-comments@sec.gov. All comment letters should refer to File No. SR-IFX-2004-01. This file number should be included on the subject line if e-mail is used. To help the Commission process and review your comments more efficiently, comments should be sent in hardcopy or by e-mail but not by both methods. Copies of the submission, all subsequent amendments, all written statements with respect to the proposed rule changes that are filed with the Commission, and all written communications relating to the proposed rule changes between the Commission and any person, other than those that may be withheld from the public in accordance with the provisions of 5 U.S.C. 552, will be available for inspection and copying in the Commission's Public Reference Room. Copies of these filings will also be available for inspection and copying at the principal office of the IFX. All submissions should refer to File No. SR-IFX-2004-01 and should be submitted by March 5, 2004.

For the Commission by the Division of Market Regulation, pursuant to delegated authority.⁸
⁸ 17 CFR 200.30-3(a)(75).
Margaret H. McFarland,
Deputy Secretary.

[FR Doc. 04-3195 Filed 2-12-04; 8:45 am]

BILLING CODE 8010-01-P